DEPARTMENT OF HEALTH AND HUMAN SERVICES

Centers for Disease Control and Prevention

[30Day-14-14AC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Application of a Web-based Health Survey Tool in Schools—New—National Institute for Occupational Safety and Health (NIOSH), Centers for Disease Control and Prevention (CDC).

Background and Brief Description

The mission of the National Institute for Occupational Safety and Health (NIOSH) is to promote safety and health at work for all people through research and prevention. The Occupational Safety and Health Act, Public Law 91-596 (section 20[a] [1]), authorizes NIOSH to conduct research to advance the health and safety of workers. NIOSH is proposing to conduct a health questionnaire of employees in 50 elementary schools in a large school district in the Northeastern United States.

According to the 2012 Bureau of Labor Statistics survey, the educational services sector employs approximately 12.9 million workers, with 8.4 million working in elementary and secondary schools. A 2010 analysis of data on U.S. working adults indicated that the educational services sector had one of the highest prevalences of current asthma at 13.1%.

In 1995, the Government Accounting Office reported that about 33% of schools in the U.S. needed extensive repair or replacement of one or more buildings, which includes problems related to dampness and mold. A better understanding of school building conditions related to dampness and mold, as well as associated health effects, is essential for the prevention of work-related illness in school staff.

NIOSH requests OMB approval to administer an internet-based questionnaire to collect health information on staff from 50 schools within this school district. The survey will be conducted concurrently with a field-based environmental survey using a dampness and mold assessment tool, which was developed by NIOSH to collect information on dampness and mold in buildings. NIOSH will collaborate with the school district and local teachers union to recruit a broad range of school staff as participants, including teachers, administrative staff, facilities and maintenance staff, nurses and counselors, and kitchen staff for this study. Results will be used to determine possible relationships between health outcomes and environmental conditions, specifically conditions related to dampness and mold. Results will also help to validate the dampness and mold assessment tool.

Overall results will benefit many stakeholders, including school-affiliated and general administrative personnel, facilities and maintenance representatives, building owners, and safety and health professionals charged with the prevention, identification, and remediation of environmental issues when occupant health concerns are raised.

NIOSH anticipates that the internet-based questionnaire will begin in the spring of 2014. All participants will be asked to complete the same questionnaire, which will take approximately 20 minutes to complete. All questionnaire results will be stored and analyzed the CDC.

The total estimated burden for this one-time collection of data is 1,567 hours.

Estimated Annualized Burden Hours
Type of participants | Testing | Number of participants | Number of responses per participants | Average burden per response (in hours)
Elementary School Employees | Questionnaire | 4,700 | 1 | 20/60

Leroy Richardson,
Chief, Information Collection Review Office, Office of Scientific Integrity, Office of the Associate Director for Science, Office of the Director, Centers for Disease Control and Prevention.

[FR Doc. 2014-08167 Filed 4-10-14; 8:45 am]

BILLING CODE 4163-18-P